GOVERNMENT ACCOUNTABILITY OFFICE

Exposure Draft—Standards for Internal Control in the Federal Government

AGENCY: U.S. Government Accountability Office.

ACTION: Notice Of Document Availability.

SUMMARY: The U.S. Government Accountability Office (GAO) is seeking public comments on the proposed revisions to the Standards for Internal Control in the Federal Government, known as the “Green Book,” under the authority provided in 31 U.S.C. 3512 (c), (d), commonly known as the Federal Managers' Financial Integrity Act. To help ensure that the standards continue to meet the needs of government managers and the audit community it serves, the Comptroller General of the United States established the Green Book Advisory Council to provide input on revisions to the “Green Book.” This exposure draft of the standards includes the Advisory Council's input regarding the proposed changes. We are currently requesting public comments on the proposed revisions in the exposure draft. The proposed changes contained in the 2013 Exposure Draft update to the Standards for Internal Control in the Federal Government reflect major developments in the accountability and financial management profession and emphasize specific considerations applicable to the government environment.

The draft of the proposed changes to Standards for Internal Control in the Federal Government, 2013 Exposure Draft, will only be available in electronic format and will be available to be downloaded from GAO's Web page at www.gao.gov. All comments will be considered a matter of public record and will ultimately be posted on the GAO Web page.

DATES: The exposure period will be from September 2, 2013 to December 2, 2013.

ADDRESSES: Comment letters should be emailed to GreenBook@gao.gov. Please include Comment Letter in the subject line of the email.

FOR FURTHER INFORMATION CONTACT: For information on the Standards for Internal Control in the Federal Government, please contact Kristen Kociolek, Assistant Director, Financial Management and Assurance, telephone 202-512-2989.

Authority: 31 U.S.C. 3512 (c), (d).

James Dalkin,
Director, Financial Management and Assurance, U.S. Government Accountability Office.

[FR Doc. 2013-20530 Filed 8-22-13; 8:45 am]

BILLING CODE 1610-02-P